DEPARTMENT OF HEALTH AND HUMAN SERVICES

Centers for Disease Control and Prevention

[60Day-22-22BU; Docket No. CDC-2022-0006]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Year 7 (2022) Customer Service Satisfaction Survey for the CDC Antibiotic Resistance (AR) Isolate Bank. The proposed information collection project aims to collect customer service satisfaction data from AR Isolate Bank users and will be used to make improvements to the tool for future years.

DATES: CDC must receive written comments on or before March 25, 2022.

ADDRESSES: You may submit comments, identified by Docket No. CDC-2022-0006 by any of the following methods:

• Federal eRulemaking Portal: Regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Year 7 (2022) Customer Satisfaction Survey for the CDC Antibiotic Resistant Isolate Bank—New—National Center for Emerging and Zoonotic Infectious Diseases (NCEZID), Centers for Disease Control and Prevention (CDC).

Background and Brief Description

The CDC AR Isolate Bank Customer Satisfaction Survey will capture feedback regarding ease of use, product quality, and expectations for future panels from AR Isolate Bank customers. This survey comes six years after the AR Isolate Bank launched. Since the first satisfaction survey, the Bank's customer base has more than tripled and represents an even more diverse set of users. Results may inform additional new features and/or isolates to meet these news users' needs and may also provide insight for success stories. Results from the Year 7 survey will be compared to the previous year's results to better determine how each sector is utilizing CDC's isolates, assess how well the customer needs have been met, and establish areas for future improvement. Survey results from previous years have informed upgrades to the Bank's web interface and have aided in streamlining the ordering process. Feedback will be used as CDC works to continually improve the Bank's web interface and customer engagement process.

Respondents will be those who have received orders from the AR Isolate Bank, and represent laboratorians and researchers at academic research institutions, device and drug manufacturers, hospitals and clinics, state and local health departments, and other U.S. federal agencies. CDC requests OMB approval for an estimated 117 burden hours annually. There are no costs to respondents other than their time to participate.

Estimated Annualized Burden Hours
Type of respondents | Form name | Number of respondents | Number of responses per respondent | Average burden per response (in hours) | Total burden (in hours)
CDC's AR Isolate Bank customers | Year 7 (2022) Customer Service Satisfaction Survey for the CDC Antibiotic Resistance (AR) Isolate Bank | 700 | 1 | 10/60 | 117
Total |  |  |  |  | 117

Jeffrey M. Zirger,
Lead, Information Collection Review Office, Office of Scientific Integrity, Office of Science, Centers for Disease Control and Prevention.

[FR Doc. 2022-01263 Filed 1-21-22; 8:45 am]

BILLING CODE 4163-18-P